FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 201331.

Agreement Name: NMCC/WLS/Grimaldi U.S.—Mexico Space Charter Agreement.

Parties: Nissan Motor Car Carrier Co. Ltd. and World Logistics Service (U.S.A.) Inc. (acting as a single party); and Grimaldi Deep Sea S.p.A. and Grimaldi Euromed S.p.A. (acting as a single party).

Filing Party: Eric Jeffrey; Nixon Peabody.

Synopsis: The agreement authorizes the Parties to charter space to one another on an as needed, as available basis for the carriage of vehicles and other Ro-Ro cargo in the trade between the United States and Mexico.

Proposed Effective Date: 1/24/2020.

Location: https://www2.fmc.gov/FMC.Agreements.Web/Public/AgreementHistory/26459.

Agreement No.: 012293-007.

Agreement Name: Maersk/MSC Vessel Sharing Agreement.

Parties: Maersk A/S and Mediterranean Shipping Company S.A.

Filing Party: Wayne Rohde; Cozen O'Connor.

Synopsis: The amendment revises the name of the Maersk entry that is party to the agreement and the contact person for Maersk under Article 10.4.

Proposed Effective Date: 1/28/2020.

Location: https://www2.fmc.gov/FMC.Agreements.Web/Public/AgreementHistory/153.

Agreement No.: 201284-001.

Agreement Name: Hyundai Glovis/Sallaum Mediterranean Space Charter Agreement.

Parties: Hyundai Glovis Co., Ltd. and Sallaum Lines SA.

Filing Party: Wayne Rohde; Cozen O'Connor.

Synopsis: The amendment changes the Sallaum entity that is a party to the Agreement.

Proposed Effective Date: 1/29/2020.

Location: https://www2.fmc.gov/FMC.Agreements.Web/Public/AgreementHistory/20309.

Agreement No.: 012443-002.

Agreement Name: Hyundai Glovis/Sallaum Cooperative Working Agreement.

Parties: Hyundai Glovis Co., Ltd. and Sallaum Lines SA.

Filing Party: Wayne Rohde; Cozen O'Connor.

Synopsis: The amendment changes the Sallaum entity that is a party to the Agreement.

Proposed Effective Date: 3/14/2020.

Location: https://www2.fmc.gov/FMC.Agreements.Web/Public/AgreementHistory/1921.

Agreement No.: 201264-001.

Agreement Name: Maersk/MSC Turkey Space Charter Agreement.

Parties: Maersk A/S and Mediterranean Shipping Company S.A.

Filing Party: Wayne Rohde; Cozen O'Connor.

Synopsis: The amendment changes the name of the Maersk entity that is a party to the Agreement.

Proposed Effective Date: 1/29/2020.

Location: https://www2.fmc.gov/FMC.Agreements.Web/Public/AgreementHistory/15239.

Agreement No.: 012128-005.

Agreement Name: Southern Africa Agreement.

Parties: Maersk A/S and Mediterranean Shipping Company S.A.

Filing Party: Wayne Rohde; Cozen O'Connor.

Synopsis: The amendment changes the name of the Maersk party to the Agreement.

Proposed Effective Date: 1/29/2020.

Location: https://www2.fmc.gov/FMC.Agreements.Web/Public/AgreementHistory/373.

Agreement No.: 012136-004.

Agreement Name: ML/MSC Space Charter Agreement.

Parties: Maersk A/S and Mediterranean Shipping Company S.A.

Filing Party: Wayne Rohde; Cozen O'Connor.

Synopsis: The amendment changes the name of the Maersk entity that is party to the Agreement.

Proposed Effective Date: 1/29/2020.

Location: https://www2.fmc.gov/FMC.Agreements.Web/Public/AgreementHistory/382.

Agreement No.: 011928-010.

Agreement Name: Maersk/HLAG Slot Charter Agreement.

Parties: Maersk A/S and Hapag-Lloyd AG.

Filing Party: Wayne Rohde; Cozen O'Connor.

Synopsis: The amendment changes the name of the Maersk entity that is party to the Agreement.

Proposed Effective Date: 1/29/2020.

Location: https://www2.fmc.gov/FMC.Agreements.Web/Public/AgreementHistory/503.

Dated: January 31, 2020.
Rachel Dickon,
Secretary.

[FR Doc. 2020-02259 Filed 2-4-20; 8:45 am]

BILLING CODE 6731-AA-P